ENVIRONMENTAL PROTECTION AGENCY

[FRL-7654-3]

Science Advisory Board Staff Office; Notification of an Upcoming Science Advisory Board Meeting

AGENCY: Environmental Protection Agency (EPA).

ACTION: Notice.

SUMMARY: The EPA Science Advisory Board (SAB) Staff Office announces a public telephone conference meeting to discuss the review of two draft SAB reports.

DATES: May 18, 2004. A public telephone conference meeting of the SAB's review committee will be held from 1 p.m. to 3 p.m (Eastern Time) on May 18, 2004.

ADDRESSES: The telephone conference for these reviews will be held by telephone only.

FOR FURTHER INFORMATION CONTACT: Members of the public who wish to obtain further information regarding the telephone conference may contact Mr. Thomas O. Miller, Designated Federal Officer (DFO), U.S. EPA Science Advisory Board via phone (202) 343-9982) or e-mail at miller.tom@epa.gov, or Dr. Anthony Maciorowski, Associate Director for Science, U.S. EPA Science Advisory Board via phone ((202) 343-9983) or e-mail at maciorowski.anthony@epa.gov.

The SAB Mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: (a) Background on the Air Toxics Research Strategy Report Quality Review Committee (QRC) Meeting: The Air Toxics Research Strategy Report QRC Telephone Conference Meeting will be held on Tuesday, May 18, 2004 from 1 p.m. until 2 p.m. The purpose of the meeting will be to allow the members of the QRC to conduct a public review and discussion of the report.

The focus of the discussion will be on whether: (i) The original charge questions to the review panel have been adequately addressed, (ii) there are any technical errors or omissions in the report or issues that are inadequately dealt with in the report, (iii) the report is clear and logical, and (iv) any conclusions drawn, or recommendations provided, are supported by the body of information in the review report. The outcome of the QRC review will be one of the following: (i) Recommend SAB approval of the report, (ii) return the report to the review panel for further work, (iii) reject the work of the review panel and request a reconsideration and a revised report in the future, or (iv) recommend that the SAB constitute an entirely new review panel.

(b) Background on the Environmental Economics Research Strategy Report QRC Meeting: The Environmental Economics Research Strategy Report QRC Telephone Conference Meeting will be held on Tuesday, May 18, 2004 from 2 p.m. until 3 p.m. The purpose of the meeting will be to allow the members of the QRC to conduct a public review and discussion of the report. The focus of the discussion and the possible outcomes are the same as described in section (a), above.

Availability of Review Material for the Board Meeting: Documents that are the subject of this meeting are available on the SAB Web site at: http://www.epa.gov/sab/.

Procedures for Providing Public Comment: It is the policy of the SAB Staff Office to accept written public comments of any length, and to accommodate oral public comments whenever possible. The SAB Staff Office expects that public statements presented at SAB meetings will not be repetitive of previously submitted oral or written statements.

Oral Comments: In general, each individual or group requesting an oral presentation at a telephone conference call meeting will usually be limited to no more than three minutes per speaker and no more than fifteen minutes total. Interested parties should contact the DFO noted above in writing via e-mail at least one week prior to the meeting in order to be placed on the public speaker list for the meeting. Speakers should provide an electronic copy of their comments for distribution to interested parties and participants in the meeting.

Written Comments: Although written comments are accepted until the date of the meeting (unless otherwise stated), written comments should be received in the SAB Staff Office at least one week prior to the meeting date so that the comments may be made available to the committee for their consideration.

Comments should be supplied to the DFO at the address/contact information above in the following formats: One hard copy with original signature, and one electronic copy via e-mail (acceptable file format: Adobe Acrobat, WordPerfect, Word, or Rich Text files (in IBM-PC/Windows 95/98 format)).

Meeting Accommodations: Individuals requiring special accommodation to access these meetings, should contact the DFO at least five business days prior to the meeting so that appropriate arrangements can be made.

Dated: April 19, 2004.
Vanessa T. Vu,
Director, EPA Science Advisory Board Staff Office.

[FR Doc. 04-9560 Filed 4-26-04; 8:45 am]

BILLING CODE 6560-50-P